DEPARTMENT OF COMMERCE

International Trade Administration

[A-489-815]

Light-Walled Rectangular Pipe and Tube: Final Results of Antidumping Duty Administrative Review and Final Determination of No Shipments; 2015-2016

AGENCY: Enforcement and Compliance, International Trade Administration, Department of Commerce.

SUMMARY: On June 6, 2017, the Department of Commerce (Department) published the preliminary results of the 2015-2016 administrative review (AR) of the antidumping duty (AD) order on light-walled rectangular pipe and tube (LWRPT) from Turkey for the period May 1, 2015, through April 30, 2016 (POR). Based on our analysis of the comments received, we made changes to the margin calculations for the final results of this AR. The final weighted-average dumping margins are listed below in the “Final Results of Review” section of this notice.

DATES: Applicable October 12, 2017.

FOR FURTHER INFORMATION CONTACT: Jonathan Hill, AD/CVD Operations, Office IV, Enforcement & Compliance, International Trade Administration, Department of Commerce, 1401 Constitution Avenue NW., Washington, DC 20230; telephone: (202) 482-3518.

SUPPLEMENTARY INFORMATION:

Background

On June 6, 2017, the Department published in the Federal Register the preliminary results of the 2015-2016 AR of the AD order on LWRPT from Turkey.¹ For events subsequent to the Preliminary Results, see the Department's Issues and Decision Memorandum.² This review covers nine producers/exporters of subject merchandise, including the two respondents selected for individual examination: Agir Haddecilik A.S. (Agir), Cayirova Boru Sanayi ve Ticaret A.S., CINAR Boru Profil Sanayi ve Ticaret A.S., Noksel Celik Boru Sanayi A.S., Toscelik Metal Ticaret A.S., Toscelik Profil ve Sac Endustrisi A.S., Tosyali Dis Ticaret A.S., Yucelboru Ihracat Ithalat ve Pazarlama A.S., and Yucel Boru ve Profil Endustrisi A.S.

¹ See Light-Walled Rectangular Pipe and Tube from Turkey: Preliminary Results of Antidumping Duty Administrative Review; 2015-2016, 82 FR 26044 (June 6, 2017) (Preliminary Results) and accompanying Decision Memorandum from Gary Taverman, Deputy Assistant Secretary, Antidumping and Countervailing Duty Operations to Ronald K. Lorentzen, Acting Assistant Secretary, Enforcement and Compliance, “Decision Memorandum for Preliminary Results of the 2015-2016 Antidumping Duty Administrative Review of Light-Walled Rectangular Pipe and Tube from Turkey,” dated May 31,2017 (Preliminary Decision Memorandum).

² See Memorandum from James Maeder, Senior Director, performing the duties of Deputy Assistant Secretary for Antidumping Duty and Countervailing Duty Operations to Gary Taverman, Deputy Assistant Secretary, Antidumping and Countervailing Duty Operations performing the non-exclusive functions and duties of the Assistant Secretary for Enforcement and Compliance “2015-2016 Antidumping Duty Administrative Review of Light-Walled Rectangular Pipe and Tube from Turkey: Issues and Decision Memorandum for the Final Results,” dated concurrently with this notice (Issues and Decision Memorandum).

Scope of the Order

The merchandise subject to this order is certain welded carbon quality light-walled steel pipe and tube, of rectangular (including square) cross section, having a wall thickness of less than 4 mm.³ The welded carbon-quality rectangular pipe and tube subject to this order is currently classified under the Harmonized Tariff Schedule of the United States (HTSUS) subheadings 7306.61.50.00 and 7306.61.70.60. While HTSUS subheadings are provided for convenience and CBP's customs purposes, our written description of the scope of the order is dispositive.

³ For a complete description of the scope of the order, see Issues and Decision Memorandum.

Analysis of Comments Received

All issues raised in the case and rebuttal briefs filed by parties in this review are addressed in the Issues and Decision Memorandum, which is hereby adopted by this notice. A list of the issues that parties raised, and to which we responded in the Issues and Decision Memorandum, follows as an appendix to this notice. The Issues and Decision Memorandum is a public document and is on file electronically via Enforcement and Compliance's Antidumping and Countervailing Duty Centralized Electronic Service System (ACCESS). ACCESS is available to registered users at https://access.trade.gov and to all parties in the Central Records Unit, room B8024 of the main Department of Commerce building. In addition, a complete version of the Issues and Decision Memorandum can be accessed directly on the Internet at http://enforcement.trade.gov/frn/. The paper copy and electronic version of the Issues and Decision Memorandum are identical in content.

Changes Since the Preliminary Results

Based on a review of the record and comments received from interested parties regarding our Preliminary Results, and for the reasons explained in the Issues and Decision Memorandum, we made revisions to our preliminary calculations of the weighted-average dumping margins for the mandatory respondents, CINAR and Noksel.⁴ Regarding CINAR, the Department modified CINAR's home market and margin calculation programs to capture all domestic brokerage and handling expenses and revised the date parameters that define home market and U.S. sales. Regarding Noksel, the Department modified Noksel's U.S. margin program to exclude certain sales that were entered outside of the POR.

⁴ See Issues and Decision Memorandum at comments 7, 8, and 11.

Final Determination of No Shipments

In the Preliminary Results, we found that one company, Agir Haddecilik A.S., had no shipments during the POR.⁵ Consistent with the Department's assessment practice, the Department completed the review with respect to Agir.⁶ For these final results, we continue to find that Agir had no shipments during the POR.⁷ As noted in the “Assessment” section below, the Department will issue appropriate instructions with respect to this company to CBP based on our final results.⁸ In addition, Agir will maintain its dumping margin from the most recently completed segment of this proceeding in which it participated., i.e., 0.00 percent.⁹

⁵ See Preliminary Results.

⁶ See, e.g., Certain Frozen Warmwater Shrimp from Thailand; Preliminary Results of Antidumping Duty Administrative Review, Partial Rescission of Review, Preliminary Determination of No Shipments; 2012-2013, 79 FR 15951, 15952 (March 24, 2014), unchanged in Certain Frozen Warmwater Shrimp from Thailand: Final Results of Antidumping Duty Administrative Review, Final Determination of No Shipments, and Partial Rescission of Review; 2012-2013, 79 FR at 51306 (August 28, 2014).

⁷ See Issues and Decision Memorandum at Comment 1.

⁸ See “Assessment” section of this notice, below.

⁹ See Light-Walled Rectangular Pipe and Tube from Turkey: Final Results of Antidumping Duty Administrative Review; 2014-2015, 81 FR 28823 (May 10, 2016).

Final Results of Review

As a result of this review, we determine the following weighted-average dumping margins exist for the POR:

Manufacturer/exporter | Weighted- average margin (percent)
Cinar Boru Profil Sanayi ve Ticaret A.S | 18.16
Noksel Celik Boru Sanayi A.S | 4.93
Agir Haddecilik A.S | (*)
Toscelik Profil ve Sac Endustrisi A.S | 7.22
Toscelik Metal Ticaret A.S | 7.22
Tosyali Dis Ticaret A.S | 7.22
Yucel Boru ve Profil Endustrisi A.S | 7.22
Yucelboru Ihracat Ithalat ve Pazarlama A.S | 7.22
Cayirova Boru Sanayi ve Ticaret A.S | 7.22
* No shipments or sales subject to this review.

Consistent with the Preliminary Results, we calculated a weighted-average margin for the

companies not selected for individual examination (i.e., Cayirova Boru Sanayi ve Ticaret A.S., Toscelik Metal Ticaret A.S., Toscelik Profil ve Sac Endustrisi A.S., Tosyali Dis Ticaret A.S., Yucelboru Ihracat Ithalat ve Pazarlama A.S., and Yucel Boru ve Profil Endustrisi A.S.) using the weighted-average dumping margins of the individually-examined respondents, based on their publicly available, ranged total U.S. sales values of the selected respondents. The resulting weighted-average dumping margin being assigned to the non-individually examined respondents is 7.22 percent.¹⁰

¹⁰ See Memorandum from Jonathan Hill, International Trade Compliance Analyst, AD/CVD Operations, Office IV, Enforcement and Compliance to The File “Final Results of the 2015—2016 Antidumping Duty Administrative Review of Light-Walled Rectangular Pipe and Tube from Turkey: Calculation of the Rate for Respondents Not Selected for Individual Examination,” dated concurrently with this notice.

Disclosure

The Department intends to disclose the calculations performed for these final results of review within five days of the date of publication of this notice in the Federal Register, in accordance with 19 CFR 351.224(b).

Assessment Rates

The Department shall determine and Customs and Border Protection (CBP) shall assess antidumping duties on all appropriate entries.¹¹ The Department calculated importer-specific ad valorem antidumping duty assessment rates by aggregating the total amount of dumping calculated for the examined sales of each importer and dividing each of these amounts by the total entered value associated with those sales. The Department will instruct CBP to assess antidumping duties on all appropriate entries covered by this review where an importer-specific assessment rate is not zero or de minimis. Pursuant to the Final Modification for Reviews, we will instruct CBP to liquidate without regard to antidumping duties any entries for which the importer-specific assessment rate is zero or de minimis. Additionally, because the Department determined that Agir Haddecilik A.S. had no shipments of the subject merchandise, any suspended entries that entered under the company's case numbers (i.e., at the company's rate) will be liquidated at the all-others rate effective during the period of review, consistent with the Department's practice.

¹¹ In these final results, the Department applied the assessment rate calculation method adopted in Antidumping Proceedings: Calculation of the Weighted-Average Dumping Margin and Assessment Rate in Certain Antidumping Proceedings: Final Modification, 77 FR 8101 (February 14, 2012) (Final Modification for Reviews).

Cash Deposit Requirements

The following cash deposit requirements will be effective upon publication of the notice of final results of administrative review for all shipments of subject merchandise entered, or withdrawn from warehouse, for consumption on or after the publication of the final results of this administrative review, as provided by section 751(a)(2)(C) of the Act: (1) The cash deposit rate for respondents noted above will be the rate established in the final results of this administrative review; (2) for previously reviewed or investigated companies not listed above, the cash deposit rate will continue to be the company-specific rate published for the most recent period; (3) if the exporter is not a firm covered in this review, a prior review, or the original investigation, but the producer is, the cash deposit rate will be the rate established for the most recent period for the producer of the merchandise; and (4) the cash deposit rate for all other producers or exporters will continue to be 27.04 percent, the all-others rate established in the investigation.¹² These cash deposit requirements, when imposed, shall remain in effect until further notice.

¹² See Notice of Final Determination of Sales at Less Than Fair Value: Light-Walled Rectangular Pipe and Tube from Turkey, 73 FR 19814 (April 11, 2008).

Notification to Importers Regarding the Reimbursement of Duties

This notice also serves as a final reminder to importers of their responsibility under 19 CFR 351.402(f)(2) to file a certificate regarding the reimbursement of antidumping duties prior to liquidation of the relevant entries during this review period. Failure to comply with this requirement could result in the Department's presumption that reimbursement of antidumping duties occurred and the subsequent assessment of double antidumping duties.

Notification Regarding Administrative Protective Orders (APO)

This notice also serves as a reminder to parties subject to APO of their responsibility concerning the return or destruction of proprietary information disclosed under APO in accordance with 19 CFR 351.305(a)(3), which continues to govern business proprietary information in this segment of the proceeding. Timely written notification of the return or destruction of APO materials, or conversion to judicial protective order, is hereby requested. Failure to comply with the regulations and terms of an APO is a violation which is subject to sanction.

This notice of the final results of this antidumping duty administrative review is issued and published in accordance with sections 751(a)(1) and 777(i) of the Act and 19 CFR 351.213 and 19 CFR 351.221(b)(5).

Dated: October 4, 2017.
Gary Taverman,
Deputy Assistant Secretary for Antidumping and Countervailing Duty Operations, performing the non-exclusive functions and duties of the Assistant Secretary for Enforcement and Compliance.

Appendix

List of Topics Discussed in the Issues and Decision Memorandum

Summary

Scope of the Order

Discussion of the Issues

I. General Issues

Comment 1: Cash Deposit Instructions

Comment 2: Assessment of Antidumping Duties

II. Company Specific Issues

Agir Haddecilik A.S.

Comment 3: Finding of No Shipments

CINAR Boru Profil Sanayi ve Ticaret A.S.

Comment 4: Certificate of Service

Comment 5: Duty Drawback Adjustment

Comment 6: Product Characteristic Modification

Comment 7: Home Market and Margin SAS Program Date Parameters

Comment 8: U.S. Brokerage and Handling (B&H) Expenses

Noksel Celik Boru Sanayi A.S.

Comment 9: Duty Drawback Adjustment

Comment 10: Imputed Home Market Credit Expenses

Comment 11: Inclusion of Certain Sales Outside of the POR

Comment 12: Application of AFA to a U.S. Sale

Comment 13: Application of AFA Based on CBP Entry Data

Recommendation

[FR Doc. 2017-22072 Filed 10-11-17; 8:45 am]

BILLING CODE 3510-DS-P